DEPARTMENT OF LABOR

Employment and Training Administration

[TA-W-62,393]

American Axle & Manufacturing, Buffalo Gear and Axle Facility, Including On-Site Leased Workers From Henkel Corporation, Buffalo, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 21, 2007, applicable to workers of American Axle & Manufacturing, Buffalo Gear and Axle Facility, Buffalo, New York. The notice was published in the Federal Register on December 10, 2007 (72 FR 69710).

At the request of the State agency, the Department reviewed the certification for workers of the subject firm. The workers are engaged in the production of rear axle and steering linkage assemblies.

New information shows that leased workers of Henkel Corporation were employed on-site at the Buffalo, New York location of American Axle & Manufacturing, Buffalo Gear and Axle Facility. The Department has determined that these workers were sufficiently under the control of the subject firm to be considered leased workers.

Based on these findings, the Department is amending this certification to include leased workers of Henkel Corporation working on-site at the Buffalo, New York location of the subject firm.

The intent of the Department's certification is to include all workers employed at American Axle & Manufacturing, Buffalo Gear and Axle Facility, Buffalo, New York who were adversely-impacted by a shift in production of rear axle and steering linkage assemblies to Canada and Mexico.

The amended notice applicable to TA-W-62,393 is hereby issued as follows:

All workers of American Axle & Manufacturing, Buffalo Gear and Axle Facility, including on-site leased workers from Henkel Corporation, Buffalo, New York, who became totally or partially separated from employment on or after October 18, 2006, through November 21, 2009, are eligible to apply for adjustment assistance under Section 223 of the Trade Act of 1974, and are also eligible to apply for alternative trade adjustment assistance under Section 246 of the Trade Act of 1974.

Signed at Washington, DC this 10th day of April 2008.
Elliott S. Kushner,
Certifying Officer, Division of Trade Adjustment Assistance.

[FR Doc. E8-8776 Filed 4-22-08; 8:45 am]

BILLING CODE 4510-FN-P